DEPARTMENT OF DEFENSE

Department of the Army

Armed Forces Epidemiological Board (AFEB); Closed Meeting

AGENCY: Office of The Surgeon General, DoD.

ACTION: Notice of closed meeting.

SUMMARY: In accordance with section 10(a)(2) of Public Law 92-463, The Federal Advisory Committee Act, this announces the forthcoming select AFEB subcommittee meeting. This Board will meet via teleconference on 20 December 2001. The purpose of the meeting is to review a draft manuscript and make recommendations on potential policy implications. The manuscript has not formally been published and is protected by intellectual property rights.

This meeting will be closed to the public.

FOR FURTHER INFORMATION CONTACT: Lt Col James R. Riddle, Executive Secretary, Armed Forces Epidemiological Board, Skyline Six, 5109 Leesburg Pike, Room 682, Falls Church, Virginia 22041-3258, (703) 681-8012/3.

SUPPLEMENTARY INFORMATION: None.

Luz D. Ortiz,
Army Federal Register Liaison Officer.

[FR Doc. 01-30462 Filed 12-7-01; 8:45 am]

BILLING CODE 3710-08-M